DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before September 8, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-088556

Applicant: Deborah Leonard, Santee, California.

The applicant requests a permit to take (survey by pursuit) the Quino checkerspot butterfly (Euphydryas editha quino) in conjunction with surveys throughout the range of the species in California for the purpose of enhancing its survival.

Permit No. TE-089571

Applicant: Damon B. Corley, Encinitas, California.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout Southern California for the purpose of enhancing their survival.

Permit No. TE-090849

Applicant: David Kern Wolff.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of the species in California for the purpose of enhancing their survival.

Permit No. TE-089980

Applicant: Hagar Environmental Science, Richmond, California.

The applicant requests a permit to take (capture and release) the tidewater goby (Eucyclogobius newberryi) in conjunction with surveys in Santa Cruz County, California, for the purpose of enhancing its survival.

Permit No. TE-809232

Applicant: BIO-WEST, Logan, Utah.

The permittee requests an amendment to take (capture and release) the Pahrump poolfish (Empetrichthys latos), the Moapa dace (Moapa coriacea), the White River springfish (Crenichthys baileyi baileyi), the Hiko White River springfish (Crenichthys baileyi grandis) the Pahranagat roundtail chub (Gila robusta jordani), and the White River spinedace (Lepidomeda albivallis) in conjunction with surveys in Clark, White Pine, Lincoln, and Nye Counties, Nevada, for the purpose of enhancing their survival.

Permit No. TE-091012

Applicant: Molly Goble, San Ramon, California.

The applicant requests a permit to take (harass by survey, capture, handle, larval sample, and release) the California tiger salamander (Eucyclogobius newberryi) in conjunction with surveys in Sonoma and Santa Barbara Counties, California, for the purpose of enhancing its survival.

Permit No. TE-815214

Applicant: Oceano Dunes State Vehicular Recreation Area, Arroyo Grande, California.

The permittee requests an amendment to take (band) the California least tern (Sterna antillarum browni) and the western snowy plover (Charadrius alexandrinus nivosus) in conjunction with monitoring in San Luis Obispo and Santa Barbara Counties, California, for the purpose of enhancing their survival.

We solicit public review and comment on each of these recovery permit applications.

Dated: July 23, 2004.
D. Kenneth McDermond,
Acting Manager, California/Nevada Operations Office, Fish and Wildlife Service.

[FR Doc. 04-18104 Filed 8-6-04; 8:45 am]

BILLING CODE 4310-55-U